DEPARTMENT OF ENERGY

Federal Energy Regulatory Commission

[FERC Docket No. PF09-11-000]

TransCanada Alaska Company, LLC; Notice of Intent To Prepare an Environmental Impact Statement for the Planned Alaska Pipeline Project and Request for Comments on Environmental Issues

The staff of the Federal Energy Regulatory Commission (FERC or Commission) will prepare an environmental impact statement (EIS) that will discuss the environmental impacts of the planned Alaska Pipeline Project (APP). The project under review is a new natural gas pipeline system that would transport natural gas produced on the Alaska North Slope (ANS) to the Alaska-Canada border for onward delivery to markets in North America. The APP is being advanced jointly by TransCanada Alaska Company, LLC and ExxonMobil Alaska Midstream Gas Investments, LLC (“project proponent”). This EIS will be used by the Commission in its decision-making process regarding issuance of a Certificate of Public Convenience and Necessity (Certificate) under the provisions of section 7(c) of the Natural Gas Act (NGA) and the Alaska Natural Gas Pipeline Act of 2004 (ANGPA).¹

¹ The project proponent is also considering an alternative proposal to build a natural gas pipeline to Valdez, Alaska for delivery into a liquefied natural gas (LNG) plant for liquefaction and export to global LNG markets. Because the Commission has received very little information on the LNG plant and the associated pipeline, the Valdez proposal is not sufficiently developed for the FERC to include in the environmental review at this time.

This notice explains the scoping process that the Commission will use to gather comments from the public and interested agencies on the planned project. Your input will help the Commission staff determine the issues that need to be evaluated in the EIS and help to focus the analysis on potentially significant environmental issues. Because of the magnitude of the proposal, the scoping period will remain open for an extended period, closing on February 27, 2012. This is not your only public input opportunity; please refer to the Environmental Review Process flow chart in Attachment 1.

Comments may be submitted in writing or verbally. Further details on how to submit written comments are provided in the “Public Participation” section of this notice. In lieu of or in addition to sending written comments, the Commission invites you to attend public scoping meetings to provide verbal and/or written comments on the project.

A schedule of the public scoping meeting dates, locations, and times will be issued in a separate notice at least one month prior to the date of the meetings. The meetings are tentatively scheduled to occur during January and February 2012.

This notice is being sent to the Commission's current environmental mailing list for this project. The environmental mailing list includes potentially affected landowners (crossed by or adjacent to the project route); landowners within 0.5 mile of compressor station sites; Federal, state, and local government agencies; elected officials; environmental and public interest groups; Alaska Native tribes; local libraries and newspapers; and other interested parties. State, local, and tribal government representatives are asked to notify their constituents of this planned project and encourage them to comment on their areas of concern.

If you are a potentially affected landowner receiving this notice, you may be contacted by the project proponent about permission to conduct surveys, and the acquisition of an easement to construct, operate, and maintain the planned facilities. The project proponent would seek to negotiate a mutually acceptable easement agreement. If the project is approved by the Commission, that approval conveys with it the right of eminent domain for securing facility easements. Therefore, if easement negotiations fail to produce an agreement, the project proponent could initiate condemnation proceedings where compensation for the necessary easement would be determined in accordance with state law.

A fact sheet prepared by the FERC entitled “An Interstate Natural Gas Facility On My Land? What Do I Need To Know?” is included for the potentially affected landowners identified along the proposed route and is available for viewing on the FERC Web site (http://www.ferc.gov). This fact sheet addresses a number of typically-asked questions, including the use of eminent domain and how to participate in the Commission's proceedings.

Summary of the Planned Project

The APP would involve construction and operation of a new pipeline system to transport up to 4.5 billion cubic feet of natural gas per day (Bcfd). Specifically, the planned project includes the following major components in Alaska:

• About 58 miles of 32-inch-diameter pipeline and associated aboveground facilities (the Point Thomson Pipeline) from the processing plant at the Point Thomson Field to a planned gas treatment plant (GTP) near Prudhoe Bay, Alaska;

• A new GTP near Prudhoe Bay capable of producing up to 4.5 Bcfd of pipeline-quality gas;

• About 745 miles of 48-inch-diameter pipeline and associated aboveground ancillary and auxiliary facilities (the Alaska Mainline) from the GTP to the Alaska-Yukon border. The Alaska Mainline would have a maximum allowable operating pressure of 2,500 pounds per square inch;

• Construction of at least five delivery points, eight compressor stations, two meter stations, various mainline block valves, and pig launching/receiving facilities; ² and

² A “pig” is a tool that is inserted into and moves through the pipeline, and is used for cleaning the inside surface of the pipeline, internal inspections, and other purposes.

• Associated infrastructure such as access roads, helipads, construction camps, pipe storage areas, contractor yards, borrow sites, and dock modifications and dredging at Prudhoe Bay.

The planned Alaska Mainline would start at the GTP and generally follow the existing Trans-Alaska Pipeline System crude oil pipeline (TAPS) and adjacent highways southeast to Delta Junction, Alaska. From Delta Junction, the mainline would diverge from TAPS and generally follow the Alaska Highway southeast to the Alaska-Yukon border. At the Alaska-Yukon border, the pipeline would interconnect to a new pipeline in Canada to deliver gas to North American markets through the Alberta Hub or other facilities with existing off-take capacity at or near the British Columbia/Alberta border. A map depicting the general location of project facilities is included as attachment 2.³

³ Attachment 1 (Environmental Review Process), attachment 2 (APP General Location Map) and attachment 3 (Mailing List/Environmental Document Request Form) are not being printed in the Federal Register. Copies are available on the Commission's Web site (http://www.ferc.gov) at the “eLibrary” link or from the Commission's Public Reference Room at 202-502-8371. For instructions on connecting to eLibrary, refer to the “Availability of Additional Information” section at the end of this notice. The General Project Map and Mailing List/Environmental Document Request Form were sent to all those receiving this notice in the mail.

The project proponent anticipates filing a formal application with the FERC in October 2012, starting construction of the APP in the fourth quarter of 2014, and placing the pipeline system into service in the third quarter of 2020.

Land Requirements for Construction

The project proponent plans to use a nominal 145- to 200-foot-wide construction right-of-way for the majority of the pipeline routes. Additional temporary work areas would be required where the pipeline routes cross certain features (e.g., waterbodies, wetlands, steep slopes, roads, and railroads); for staging areas, pipe yards, and contractors' yards; and for widening certain roads for project access.

On the basis of preliminary information, the project proponent estimates that construction of the APP would disturb about 19,900 acres of land. About 10,200 acres of this land would be retained after construction for a proposed 100-foot-wide permanent right-of-way and the aboveground facility sites (such as compressor stations). The remaining acreage would be restored and allowed to revert to former uses following construction.

The EIS Process

Under section 104 of the ANGPA, Congress designated the FERC as the lead Federal agency for preparation of an EIS that consolidates all involved Federal agency environmental reviews. The ANGPA directed that involved Federal agencies adopt this EIS to satisfy their individual National Environmental Policy Act (NEPA) responsibilities.

NEPA requires the Commission to take into account the environmental impacts that could result from an action whenever it considers the issuance of a Certificate of Public Convenience and Necessity under section 7 of the NGA. NEPA also requires us ⁴ to identify concerns the public may have about proposals. This process is referred to as “scoping.” The main goal of the scoping process is to focus the analysis in the EIS on important environmental issues. By this notice, the Commission requests public comments on the scope of the issues to be addressed in the EIS. All comments received during the scoping period will be considered during the preparation of the EIS. To ensure your comments are considered, please carefully follow the instructions in the Public Participation section of this notice.

⁴ “We,” “us,” and “our” refer to the environmental staff of the FERC's Office of Energy Projects.

In the EIS, we will discuss impacts that could occur as a result of the construction and operation of the planned project under the following general headings:

• Geology and soils:

• Land use, recreation, and visual resources;

• Water resources, fisheries, and wetlands;

• Cultural resources;

• Vegetation and wildlife;

• Socioeconomics and subsistence;

• Air quality and noise;

• Endangered and threatened species; and

• Public health and safety.

We will also evaluate possible alternatives to the planned project or portions of the project, and make recommendations on how to lessen or avoid impacts on the various resources.

Although no formal application has been filed, we have already initiated our NEPA review under the FERC's pre-filing process.⁵ The purpose of the pre-filing process is to encourage early involvement of interested stakeholders and to identify and resolve issues before an application is filed with the FERC. As part of our pre-filing review, we have already started to meet with the project proponent, jurisdictional agencies, Alaska Native tribes, local officials, and other interested stakeholders to discuss the project and identify issues/impacts and concerns. We also participated in 24 public open house meetings in Alaska hosted by the project proponent in March, April, May, and June 2011. Additionally, we have been meeting with interested state and Federal agencies to discuss their possible involvement in the scoping process and the preparation of the EIS.

⁵ The FERC granted the project proponent's request to begin the pre-filing process on May 1, 2009.

Our independent analysis of the issues identified during the scoping process will be presented in the EIS. The draft EIS will be published and distributed for a 45-day public review and comment period. We will consider all timely comments and revise the document, as necessary, before issuing a final EIS.

With this notice, we are asking agencies with jurisdiction and/or special expertise with respect to environmental issues to formally cooperate with us in the preparation of the EIS. These agencies may choose to participate once they have evaluated the proposal relative to their responsibilities. Agencies that would like to request cooperating agency status should follow the instructions for filing comments provided under the Public Participation section of this notice. Thus far, the Bureau of Land Management, U.S. Army Corps of Engineers, U.S. Fish and Wildlife Service, U.S. Environmental Protection Agency, U.S. Department of Transportation's Pipeline and Hazardous Materials Safety Administration, U.S. Geological Survey, U.S. Coast Guard, Eielson Air Force Base, and the Office of the Federal Coordinator for Alaska Natural Gas Transportation Projects have agreed to participate as cooperating agencies in the preparation of the EIS.

Currently Identified Environmental Issues

We have already identified a number of issues that we think deserve attention based on the public open houses, interagency meetings, and our review of the information provided by the project proponent. This preliminary list of issues may be changed based on your comments and our analysis.

• Permafrost, Soils, and Reclamation:

—Construction limitations and slope stabilization in steep terrain and permafrost.

—Potential for problematic reclamation due to poor soils and permafrost conditions.

—Material, design, and operations and maintenance procedures/specifications for permafrost and subsidence locations.

—Potential for introduction or spread of invasive and/or noxious species of vegetation during and after construction.

• Cultural Resources:

—Impacts on traditional Alaska Native culture, historic sites, and landscapes.

• Water Resources and Wetlands:

—Effects of construction and operation on waterbodies and wetlands.

—Effects of dredging and dumping dredged material into ocean waters.

• Fish, Wildlife, Vegetation, and Sensitive Species:

—Effects of project construction on fish and wildlife and their habitat, including federally listed threatened and endangered species, migratory birds, and big game species.

—Effects of water depletion from hydrostatic testing and ice road construction.

• Seismic Activity and Geohazards:

—Pipeline design in seismically active areas.

—Construction in geohazard areas.

• Land Use, Recreation, and Special Interest Areas:

—Impacts on wilderness characteristics.

—Impacts on existing conservation system units (e.g., Tetlin National Wildlife Refuge).

—Private land crossings.

—Impacts on recreation (e.g., fishing, hunting, boating, camping, hiking, skiing, mushing, and snowmachining).

• Socioeconomics:

—Effects of construction workforce demands on public services and temporary housing.

—Economic impacts on local communities.

—Environmental Justice.

• Subsistence and Public Health:

—Effects of construction and operation on fish, wildlife, marine mammal, and plant species used for subsistence.

—Impacts on access to subsistence resources.

—Health impacts on local communities.

• Air Quality and Noise

—Impacts on areas of air quality nonattainment.

• Reliability and Safety:

—Crossings of the TAPS.

—Corrosion protection.

—Potential hazards to the planned facilities from wildfires.

—Assessment of security associated with operation of the facilities.

• Cumulative Impacts:

—Effects of the APP when combined with other actions in the same region.

—Impacts from siting multiple utilities within the same corridor.

—Potential for the new corridors to attract future utility lines.

Public Participation

You can make a difference by providing us with your specific comments or concerns about the planned project. Your comments should focus on the potential environmental effects, reasonable alternatives, and measures to avoid or lessen environmental impacts. The more specific your comments, the more useful they will be. To ensure that your comments are timely and properly recorded, please send your comments so that they will be received in Washington, DC, on or before February 27, 2012.

For your convenience, there are three methods that you can use to submit written comments to the Commission. In all instances, please reference the project docket number (PF09-11-000) with your submission. The Commission encourages electronic filing of comments and has expert eFiling staff available to assist you at (202) 502-8258 or efiling@ferc.gov.

1. You may file your comments electronically by using the eComment feature, which is located on the Commission's Web site at http://www.ferc.gov under the link to Documents and Filings. An eComment is an easy method for interested persons to submit brief, text-only comments on a project.

2. You may file your comments electronically by using the eFiling feature, which is located on the Commission's Web site at http://www.ferc.gov under the link to Documents and Filings. With eFiling, you can provide comments in a variety of formats by attaching them as a file with your submission. New eFiling users must first create an account by clicking on “eRegister.” You will be asked to select the type of filing you are making. A comment on a particular project is considered a “Comment on a Filing”; or

3. You may mail a paper copy of your comments to the Commission at the following address: Kimberly D. Bose, Secretary, Federal Energy Regulatory Commission, 888 First Street NE., Room 1A, Washington, DC 20426.

Environmental Mailing List

We are developing an environmental mailing list that will be used to provide interested parties with information on the EIS process and opportunities for public participation, including distribution of the draft EIS for public review. The environmental mailing list includes Federal, state, and local government representatives and agencies; Alaska Native tribes and village corporations; elected officials; environmental and public interest groups; other interested parties; and local libraries and newspapers. This list also includes all affected landowners (as defined in the Commission's regulations) who are potential right-of-way grantors, whose property may be used temporarily for project purposes, or who own homes within certain distances of aboveground facilities, and anyone who submits comments on the project. If you received this notice, you are currently on the environmental mailing list for the APP. We will update the environmental mailing list as the analysis proceeds to ensure that we send the information related to this environmental review to all individuals, organizations, and government entities interested in and/or potentially affected by the planned project.

Copies of the completed draft EIS will be sent to individuals on the environmental mailing list for public review and comment. If you would prefer to receive a paper copy instead of the CD version or would like to remove your name from the mailing list, please return the attached Environmental Document Request Form (attachment 3).

Becoming an Intervenor

Once the project proponent formally files its application with the Commission, you may want to become an official party to the proceeding known as an “intervenor.” Intervenors play a more formal role in the process and are able to file briefs, appear at hearings, and be heard by the courts if they choose to appeal the Commission's final ruling. An intervenor formally participates in a Commission proceeding by filing a request to intervene. Instructions for becoming an intervenor are included in the User's Guide under the “eFiling” link on the Commission's Web site. Please note that the Commission will not accept requests for intervenor status at this time. You must wait until a formal application for the APP is filed with the Commission. You do not need intervener status to have your environmental comments considered.

Additional Information

Additional information is available from FERC's Office of External Affairs at (866) 208-FERC (3372) or on the FERC Web site (http://www.ferc.gov) using the eLibrary link. Click on the eLibrary link, click on “General Search,” and enter the docket number, excluding the last three digits in the Docket Number field (i.e., PF09-11). Be sure you have selected an appropriate date range. For assistance, please contact FERC Online Support at FERCOnlineSupport@ferc.gov or toll free at (866) 208-3676, or for TTY, contact (202) 502-8659. The eLibrary link on the FERC Web site also provides access to the text of formal documents issued by the Commission, such as orders, notices, and rulemakings.

In addition, the Commission offers a free service called eSubscription that allows you to keep track of all formal issuances and submittals in specific dockets. This can reduce the amount of time you spend researching proceedings by automatically providing you with notification of these filings, document summaries, and direct links to the documents. To register for this service, go to the eSubscription link on the FERC Web site (http://www.ferc.gov/docs-filing/esubscription.asp).

Also, the project proponent has established a Web site for the APP at http://www.thealaskapipelineproject.com. The Web site includes a description of the project as well as project maps and links to related documents. Information can also be obtained by calling the project proponent directly at (877) 625-8679 (toll free) or (907) 564-3660.

Dated: August 1, 2011.
Kimberly D. Bose,
Secretary.

[FR Doc. 2011-19942 Filed 8-4-11; 8:45 am]

BILLING CODE 6717-01-P